DEPARTMENT OF THE INTERIOR

Bureau of Land Management

[BLM_MT_FRN_MO4500182720]

Notice of Availability of the Record of Decision and Approved Resource Management Plan Amendment for the Miles City Field Office, Montana

AGENCY: Bureau of Land Management, Interior.

ACTION: Notice of availability.

SUMMARY: The Bureau of Land Management (BLM) announces the availability of the Record of Decision (ROD) for the Approved Resource Management Plan (RMP) Amendment for the Miles City Field Office located in Miles City, Montana. The BLM Director signed the ROD on November 20, 2024, which constitutes the decision of the BLM and makes the Approved RMP Amendment effective immediately.

DATES: The BLM Director signed the ROD/Approved RMP Amendment on November 20, 2024.

ADDRESSES: The ROD/Approved RMP Amendment is available online https://eplanning.blm.gov/eplanning-ui/project/2021155/510. Printed copies of the ROD/Approved RMP Amendment are available for public inspection at the Miles City Field Office or can be provided upon request by contacting Irma Nansel, Project Manager, telephone (406) 233-3653; or at the address BLM Miles City Field Office, 111 Garryowen Road, Miles City, MT 59301; email inansel@blm.gov.

A copy of the Protest Resolution Report is available at: https://www.blm.gov/programs/planning-and-nepa/public-participation/protest-resolution-reports.

FOR FURTHER INFORMATION CONTACT: Irma Nansel, Project Manager, telephone (406) 233-3653; or at the address BLM Miles City Field Office, 111 Garryowen Road, Miles City, MT 59301; email inansel@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Approved RMP Amendment addresses a United States District Court for the District of Montana order (Western Organization of Resource Councils, et al. v. BLM; CV 00076-GF-BMM; 8/3/2022). The Approved RMP Amendment changes the existing 2015 Miles City Approved RMP.

The RMP Amendment approved by the ROD includes land use allocations of areas acceptable for further consideration for coal leasing and those that are not. The Approved RMP Amendment is Alternative D from the Final Supplemental EIS, which allocates zero acres of BLM administered coal as available, and 1,745,040 acres unavailable for further consideration for coal leasing within the Miles City Field Office planning area. The Approved RMP Amendment does not affect the area with coal development potential or the area determined to be suitable for surface coal mining.

The Approved RMP Amendment includes the updated coal screens (43 CFR 3420.1-4(e)) using current data and evaluated the issues identified through internal and public scoping. Application of coal screen 1 (development potential) identified approximately 1,745,000 acres of BLM-administered coal as having development potential. The Approved RMP Amendment also addresses the NEPA deficiencies identified by the court order associated with the application of the multiple-use screen. Specifically, the application of a multiple-use climate change criterion that uses greenhouse gas emissions as a proxy for climate change. Reducing availability of BLM-administered coal for leasing consideration reduces the contribution of greenhouse gas emissions from the development and combustion of BLM-administered coal from the planning area.

The BLM determined that additional leasing of BLM-administered coal is not necessary based on the current analysis in the Final Supplemental EIS. The analysis indicates that operating mines in the planning area have existing leases with sufficient coal reserves to maintain existing mine production levels until 2035 for Spring Creek Mine and 2060 for Rosebud Mine.

The BLM published a notice of availability for the Draft Supplemental EIS and Potential RMP Amendment in the Federal Register on May 8, 2023, which initiated a 90-day comment period (88 FR 29689). On June 6th, the BLM hosted a public meeting at the BLM Miles City Field Office in Miles City, Montana, to present the Draft Supplemental EIS and RMP Amendment to the public and solicit comments. The BLM also hosted an on-line public meeting on June 7, 2023. Eight members of the public attended the on-line meeting. During the public comment period, the BLM received 14 unique written submissions containing 167 substantive comments. The Draft Supplemental EIS comments helped the BLM refine the Final Supplemental EIS and guided the development of the Proposed RMP Amendment.

The BLM provided the Proposed RMP Amendment for public protest on May 17, 2024 (89 FR 43432), for a 30-day protest period, and received seven valid protests. The BLM Assistant Director for Planning and Resources resolved all protests. Responses to protest issues were compiled and documented in a Protest Resolution Report (see ADDRESSES). No changes were made to the Approved RMP Amendment as a result of protest resolution.

The BLM provided the Proposed RMP Amendment to the Governor of Montana for a 60-day Governor's consistency review. There were no inconsistencies with State or local plans, policies, or programs identified during the Governor's consistency review of the Proposed RMP Amendment. The State Director made no changes to the Proposed RMP Amendment as a result of the Governor's review. On September 18, 2024, the Governor submitted an appeal to the BLM Director on the State Director's response to the Governor's consistency review. In accordance with planning regulations (1610.3-2), the Director notified the Governor on November 6, 2024, of the reasons for the determination to reject the Governor's recommendations.

(Authority: 40 CFR 1506.6; 43 CFR 1610.5-1)

Tracy Stone-Manning,
BLM Director.

[FR Doc. 2024-27678 Filed 11-26-24; 8:45 am]

BILLING CODE 4331-20-P